DEPARTMENT OF HEALTH AND HUMAN SERVICES

Office of the Secretary

[Document Identifier: HHS-OS-0990-New-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before January 13, 2016.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-0990-New-30D for reference.

Information Collection Request Title: Privacy and Security Capacity Assessment of the Title X Network

Abstract: The Office of the Assistant Secretary for Health Office of Population Affairs, (OPA) is requesting an approval by Office of Management and Budget (OMB) for a new information collection (Privacy and Security Capacity Assessment) which seeks to collect feedback from the Title X network regarding Title X grantees' and service sites' current privacy and security capabilities for health information exchange. This voluntary form will be administered at most annually and enable the Title X network to share important information to critically inform OPA's development of Family Planning Annual Report (FPAR 2.0), as well as identify any training assistance and inform guidance that OPA may offer in the future. OPA will solicit feedback from Title X agencies to advise our work on privacy and security, and proposes to make this data collection form available for up to 3 years so that OPA can accept feedback from the network regarding any changes or trends that might alter our approach to privacy and security as we proceed through the design and build process for the planned FPAR 2.0 data repository.

Likely Respondents: Title X Grantees, Subrecipients, and Service Sites.

Total Estimated Annualized Burden—Hours
Type of respondent | Form name | Number of respondents | Number of responses per respondent | Average annualized burden per response (hours) | Annualized total burden (hours)
Grantees | Sustainability Assessment—Grantees | 92 Grantees | 1 | 40 minutes (0.66 hours) | 60.72
Service Sites | Sustainability Assessment—Sites | 4,168 | 1 | 40 minutes (0.66 hours) | 2,750.88
Totals |  | 4,260 |  |  | 2811.60

Terry S. Clark,
Asst. Information Collection Clearance Officer.

[FR Doc. 2015-31355 Filed 12-11-15; 8:45 am]

BILLING CODE 4150-28-P